DEPARTMENT OF STATE

[Public Notice: 10457]

Certification Pursuant to Section 7045(a)(4)(B) of the Department of State, Foreign Operations, and Related Programs Appropriations Act, 2017

By virtue of the authority vested in me as the Secretary of State, including pursuant to section 7045(a)(4)(B) of the Department of State, Foreign Operations, and Related Programs Appropriations Act 2017 (Div. J, Pub. L. 115-31), I hereby certify that the central Government of Guatemala is taking effective steps, which are in addition to those steps taken since the certification and report submitted during the prior year, to:

• Work cooperatively with an autonomous, publicly accountable entity to provide oversight of the Plan;

• Combat all forms of government and international agency corruption and impunity when credibly alleged;

• Implement reforms, policies, and programs to improve transparency and strengthen public institutions, including increasing the capacity and independence of the judiciary and the Office of the Attorney General;

• Implement a policy to ensure that local communities, civil society organizations (including indigenous and other marginalized groups), private sector, faith-based organizations, and local governments are consulted in the design and participate in the implementation and evaluation of activities of the Plan that affect such communities, organizations, and governments;

• Counter the activities of criminal gangs, drug traffickers, and organized crime;

• Investigate and prosecute in the civilian justice system government personnel, including military and police personnel, who are credibly alleged to have violated human rights and to ensure that such personnel are cooperating in such cases;

• Cooperate with commissions against corruption and impunity and with regional human rights entities;

• Support programs to reduce poverty, expand education and vocational training for at-risk youth, create jobs, and promote equitable economic growth particularly in areas contributing to large numbers of migrants;

• Implement a plan that includes goals, benchmarks, and timelines to create a professional, accountable civilian police force and end the role of the military in internal policing, and to make such plan available to the Department of State;

• Protect the rights of all citizens, including protection of freedom of the press;

• Increase government efficiencies, including implementing tax reforms and strengthening customs agencies to promote a more stable economy and job creation;

• Resolve commercial disputes, including the confiscation of real property, between U.S. entities and such government.

This certification shall be published in the Federal Register and, along with the accompanying Memorandum of Justification, shall be reported to Congress.

Dated: June 28, 2018.
Michael R. Pompeo,
Secretary of State.

[FR Doc. 2018-14614 Filed 7-5-18; 8:45 am]

BILLING CODE 4710-29-P